DEPARTMENT OF AGRICULTURE

Forest Service

Information Collection; Aviation Forms

AGENCY: Forest Service, USDA.

ACTION: Notice; request for comment.

SUMMARY: In accordance with the Paperwork Reduction Act of 1995, the Forest Service is seeking comments from all interested individuals and organizations on the extension of the currently approved collection of four aviation forms that assist in the documentation of pilot and aircraft qualifications, approval, and data records. These OMB approved forms include: (1) Airplane Pilot Qualifications and Approval Record (FS-5700-20); (2) Helicopter Pilot Qualifications and Approval Record (FS-5700-20a); (3) Airplane Data Record (FS-5700-21); (4) and Helicopter Data Record (FS-5700-21a).

DATES: Comments must be received in writing on or before August 4, 2003 to be assured of consideration. Comments received after that date will be considered to the extent practicable.

ADDRESSES: Comments concerning this notice should be addressed to Jim Barnett, Fire and Aviation Staff, Mail Stop 1107, 1400 Independence Avenue, Washington DC 20250-1107.

Comments also may be submitted via facsimile to (202) 205-1401 or by e-mail to: jbarnett02@fs.fed.us.

The public may inspect comments received at the Yates Building, 1400 Independence Avenue, Washington DC during normal business hours. Visitors are encouraged to call ahead to (202) 205-0985 to facilitate entry to the building.

FOR FURTHER INFORMATION CONTACT: Jim Barnett, Fire and Aviation Staff, (202) 205-0985. Individuals who use telecommunication devices for the deaf (TDD) may call the Federal Relay Service (FRS) at 1-800-877-8339 twenty-four hours a day, every day of the year, including holidays.

SUPPLEMENTARY INFORMATION: Title: Airplane Pilot Qualifications and Approval Record (FS-5700-20), Helicopter Pilot Qualifications and Approval Record (FS-5700-20a), Airplane Data Record (FS-5700-21), and Helicopter Data Record (FS-5700-21a).

OMB Number: 0596-0015.

Expiration Date of Approval: May 31, 2003.

Type of Request: Extension with revision.

Abstract: The Forest Service contracts with approximately 400 vendors for aviation services that are utilized in resource protection and project management. Total annual use of contract aircraft and pilots in recent years has exceeded 100,000 hours. Hence, in order to maintain an acceptable level of safety, mission preparedness, and cost effectiveness in aviation operations, Forest Service contracts call for rigorous qualifications for pilots and specific condition; equipment and performance requirements for aircraft. Aviation operations are conducted under extremely adverse conditions of weather, terrain, turbulence, smoke reduced visibility, minimally improved landing areas, and congested airspace around wildfires.

To ensure agency contracting officers that the pilots and aircraft meet the specific Forest Service qualifications and other requirements for aviation operations, prospective contract pilots must provide the information on the FS-5700-20 and FS-5700-20a forms. Contract Officers' Technical Representatives use the FS-5700-21 and FS-5700-21a forms as worksheets when checking the aircraft for contract compliance. A portion of the completed form is furnished to the contractor as proof of compliance.

The following changes were incorporated into the forms: (1) Below the title of each of the existing forms is a Reference to FSH 5709.12. This handbook no longer exists. The replacement reference should read FSH 5709.16. (2) Forms FS-5700-21 (Airplane Data Card) and FS-5700-21a (Helicopter Data Card) reflect the many changes that have occurred in the contracting and aircraft approval process since the forms were last updated. The basic changes consist of removing some unnecessary information from the “cards,” and adding information to the “Authorized Uses” blocks. In the other sections of the form the changes reflect the deletion of unneeded information and the addition of blocks to meet new requirements such as updated Avionics and Synthetic Long-Line requirements.

Without the information supplied on these forms, Forest Service contracting officers and pilot and aircraft inspectors cannot determine if pilots and aircraft meet the detailed qualification, equipment, and condition requirements essential to safe, effective accomplishment of Forest Service specified flying missions. Without reasonable basis to determine pilot qualifications and aircraft capability, Forest Service employees using these resources would be unnecessarily exposed to flying hazards.

The completed forms are maintained in Forest Service Regional headquarters under the care of the Regional aviation pilot and aircraft inspectors. Copies of the forms may be shared with the Office of Aircraft Services, Department of Interior, since each organization accepts contract inspections conducted by the other as meeting their own requirements.

The data collected from these forms will be used to document the basis for approval of contract pilots and aircraft for specific Forest Service aviation missions. Based upon the approvals documented on these forms, approval cards are issued to each contractor pilot and for each contractor aircraft. Forest Service personnel verify possession of properly approved cards before using contractor pilots and aircraft.

The information will be collected and revised by contracting officers or their representatives including the aircraft inspectors, and will represent data that determines whether the aircraft and/or pilots meet all contract specifications in accordance with Forest Service Handbook 5709.16, chapter 10, section 16. If the information is not collected by the Forest Service, the burden of collection, inspection and approval will be placed on another agency, most likely the Federal Aviation Administration. However, a joint study, conducted with the Department of Transportation, concluded that the Forest Service can complete their contract inspections more economically than by transferring this additional responsibility to the Federal Aviation Administration.

Estimate of Annual Burden: One hour.

Type of Respondents: Aircraft vendors that wish to contract with the Federal government for aircraft services and pilots.

Estimated Annual Number of Respondents: Hundreds of vendors will respond each year. Each of these vendors may have multiple aircraft and pilots.

Estimated Annual Number of Responses per Respondent: Contract vendors will be required to provide one response per year for each aircraft and pilot that will be involved with a Federal contract.

Estimated Total Annual Burden on Respondents: One and a half (1.5) hours per respondent per year.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Use of Comments

All comments received in response to this notice, including names and addresses when provided, will be a matter of public record. Comments will be summarized and included in the submission request toward Office of Management and Budget approval.

Dated: May 28, 2003.
Robin L. Thompson,
Acting Deputy Chief, State and Private Forestry.

[FR Doc. 03-13784 Filed 6-2-03; 8:45 am]

BILLING CODE 3410-11-P